DEPARTMENT OF ENERGY

Federal Energy Regulatory Commission

Combined Notice of Filings #1

December 19, 2007.

Take notice that the Commission has received the following Natural Gas Pipeline Rate and Refund Report filings:

Docket Numbers: RP98-18-031.

Applicants: Iroquois Gas Transmission System, L.P.

Description: Iroquois Gas Transmission System submits its Third Revised Sheet 8 to FERC Gas Tariff, First Revised Volume No. 1.

Filed Date: 12/14/2007.

Accession Number: 20071217-0195.

Comment Date: 5 p.m. Eastern Time on Wednesday, December 26, 2007.

Docket Numbers: RP06-200-040.

Applicants: Rockies Express Pipeline LLC.

Description: Rockies Express Pipeline LLC submits First Revised Sheet 9H and 9J to its FERC Gas Tariff, Second Revised Volume 1, to become effective 12/19/07.

Filed Date: 12/18/2007.

Accession Number: 20071219-0134.

Comment Date: 5 p.m. Eastern Time on Monday, December 31, 2007.

Docket Numbers: RP08-34-001.

Applicants: Kinder Morgan Illinois Pipeline LLC.

Description: Kinder Morgan Illinois Pipeline, LLC submits Substitute Original Sheet 123 to FERC Gas Tariff, Original Volume 1, to be effective 12/1/07.

Filed Date: 12/14/2007.

Accession Number: 20071217-0134.

Comment Date: 5 p.m. Eastern Time on Wednesday, December 26, 2007.

Docket Numbers: RP08-34-002.

Applicants: Kinder Morgan Illinois Pipeline LLC.

Description: Kinder Morgan Illinois Pipeline LLC submits Amendment 1 to the Transportation Rate Schedule FTS Agreement with a negotiated rate exhibit between KMIP and the Peoples Gas Light and Coke Co.

Filed Date: 12/18/2007.

Accession Number: 20071219-0131.

Comment Date: 5 p.m. Eastern Time on Monday, December 31, 2007.

Docket Numbers: RP08-36-001.

Applicants: High Island Offshore System, L.L.C.

Description: High Island Offshore System LLC submits Substitute Fourth Revised Sheet 173B, proposed to become effective 12/1/07.

Filed Date: 12/14/2007.

Accession Number: 20071219-0130.

Comment Date: 5 p.m. Eastern Time on Wednesday, December 26, 2007.

Docket Numbers: RP08-119-000.

Applicants: Questar Overthrust Pipeline Company.

Description: Questar Overthrust Pipeline Company submits Second Revised Sheet 6 to Second Revised Volume No 1-A, to be effective January 1, 2008.

Filed Date: 12/14/2007.

Accession Number: 20071214-0050.

Comment Date: 5 p.m. Eastern Time on Wednesday, December 26, 2007.

Docket Numbers: RP08-120-000.

Applicants: Texas Gas Transmission, LLC.

Description: Texas Gas Transmission, LLC submits Twelfth Revised Sheet 20 et al to FERC Gas Tariff, Second Revised Volume 1.

Filed Date: 12/14/2007.

Accession Number: 20071217-0136.

Comment Date: 5 p.m. Eastern Time on Wednesday, December 26, 2007.

Docket Numbers: RP08-120-000.

Applicants: Texas Gas Transmission, LLC.

Description: Texas Gas Transmission LLC submits its Twelfth Revised Sheet 20 et al to its FERC Gas Tariff, Second Revised Volume 1, errata filing #1 to its December 14, 2007 filing.

Filed Date: 12/17/2007.

Accession Number: 20071218-0129.

Comment Date: 5 p.m. Eastern Time on Wednesday, December 26, 2007.

Docket Numbers: RP08-120-001.

Applicants: Texas Gas Transmission, LLC.

Description: Texas Gas Transmission LLC submits Substitute Eleventh Revised Sheet 25 et al to its FERC Gas Tariff, Second Revised Volume 1, errata filing #2 to its December 14, 2007 filing.

Filed Date: 12/18/2007.

Accession Number: 20071219-0132.

Comment Date: 5 p.m. Eastern Time on Wednesday, December 26, 2007.

Docket Numbers: RP08-121-000.

Applicants: Northern Natural Gas Company.

Description: Northern Natural Gas Co notifies FERC of a receipt point that will no longer provide gathering service effective 12/14/07.

Filed Date: 12/14/2007.

Accession Number: 20071217-0135.

Comment Date: 5 p.m. Eastern Time on Wednesday, December 26, 2007.

Docket Numbers: RP08-123-000.

Applicants: Central Kentucky Transmission Company.

Description: Central Kentucky Transmission Co submits Second Revised Sheet 355 et al to FERC Gas Tariff, Second Revised Volume 1, to be effective 5/1/08.

Filed Date: 12/17/2007.

Accession Number: 20071218-0117.

Comment Date: 5 p.m. Eastern Time on Monday, December 31, 2007.

Docket Numbers: RP08-124-000.

Applicants: Columbia Gulf Transmission Company.

Description: Columbia Gas Transmission Corp submits Ninth Revised Sheet 318 et al to FERC Gas Tariff, Second Revised Volume 1, to be effective 5/1/08.

Filed Date: 12/17/2007.

Accession Number: 20071218-0118.

Comment Date: 5 p.m. Eastern Time on Monday, December 31, 2007.

Docket Numbers: RP08-125-000.

Applicants: Crossroads Pipeline Company.

Description: Crossroads Pipeline Co submits Second Revised Sheet 555 et al to FERC Gas Tariff, First Revised Volume 1, to be effective 5/1/08.

Filed Date: 12/17/2007.

Accession Number: 20071218-0119.

Comment Date: 5 p.m. Eastern Time on Monday, December 31, 2007.

Docket Numbers: RP08-126-000.

Applicants: Hardy Storage Company, LLC.

Description: Hardy Storage Co, LLC submits First Revised Sheet 203 FERC Gas Tariff, Original Volume 1, to be effective 1/18/08.

Filed Date: 12/17/2007.

Accession Number: 20071218-0120.

Comment Date: 5 p.m. Eastern Time on Monday, December 31, 2007.

Docket Numbers: RP08-127-000.

Applicants: Columbia Gas Transmission Corporation.

Description: Columbia Gas Transmission Corp submits Tenth Revised Sheet 501 et al to FERC Gas Tariff, Second Revised Volume 1, to be effective 5/1/08.

Filed Date: 12/17/2007.

Accession Number: 20071218-0121.

Comment Date: 5 p.m. Eastern Time on Monday, December 31, 2007.

Docket Numbers: RP08-128-000.

Applicants: Northern Border Pipeline Company.

Description: Northern Border Pipeline Company submits Eleventh Revised Sheet 1 et al to FERC Gas Tariff, First Revised Volume 1, to become effective 1/16/08.

Filed Date: 12/17/2007.

Accession Number: 20071218-0133.

Comment Date: 5 p.m. Eastern Time on Monday, December 31, 2007.

Docket Numbers: RP08-129-000.

Applicants: Northern Natural Gas Company.

Description: Petition of Northern Natural Company for a limited waiver of tariff provisions.

Filed Date: 12/18/2007.

Accession Number: 20071219-0133.

Comment Date: 5 p.m. Eastern Time on Monday, December 31, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E7-25203 Filed 12-27-07; 8:45 am]

BILLING CODE 6717-01-P